DEPARTMENT OF THE INTERIOR

Bureau of Land Management

[CO-920-1430-ET; COC 28629]

Public Land Order No. 7557; Opening of Public Lands Under Section 24 of the Federal Power Act; Colorado

AGENCY: Bureau of Land Management, Interior.

ACTION: Public Land Order.

SUMMARY: This order opens, subject to the provisions of section 24 of the Federal Power Act, 419.65 acres of public lands withdrawn by a Secretarial Order which established Bureau of Land Management Power Site Classification No. 93. This action will permit consummation of a pending land disposal action with retention of the power rights to the United States. The lands have been and will remain open to mineral leasing and, under the provisions of the Mining Claims Rights Restoration Act of 1955, to mining.

EFFECTIVE DATE: June 19, 2003.

FOR FURTHER INFORMATION CONTACT: Doris E. Chelius, BLM Colorado State Office, 2850 Youngfield Street, Lakewood, Colorado 80215-7093, (303) 239-3706.

Order

By virtue of the authority vested in the Secretary of the Interior by the Act of June 10, 1920, section 24, as amended, 16 U.S.C. 818 (1994), and pursuant to the determination of the Federal Energy Regulatory Commission in DVCO-559-000, it is ordered as follows:

1. At 9 a.m. on June 19, 2003, the following described public lands withdrawn by the Secretarial Order dated April 16, 1925, which established Power Site Classification No. 93, will be opened to disposal subject to the provisions of Section 24 of the Federal Power Act as specified by the Federal Energy Regulatory Commission determination DVCO-559-000, and subject to valid existing rights, the provisions of existing withdrawals, other segregations of record, and the requirements of applicable law:

Sixth Principal Meridian,

T. 9 N., R. 102 W.,

Sec. 2, lots 7, 8, 16, 17, 20, 31, 32, 33, 34, 35, and 36;

Sec. 3, lots 5, 6, 7, 8, 14, 17, 18, 21, 24, 25, and NE¼NW¼SE¼;

Sec. 11, lot 5.

The areas described aggregate approximately 419.65 acres in Moffat County.

2. The State of Colorado has a preference right for public highway rights-of-way or material sites for a period of 90 days from the date of publication of this order, and any location, entry, selection, or subsequent patent shall be subject to any rights granted the State as provided by the Act of June 10, 1920, Section 24, as amended, 16 U.S.C. 818 (1994).

Dated: March 5, 2003.
Rebecca W. Watson,
Assistant Secretary—Land and Minerals Management.

[FR Doc. 03-6674 Filed 3-19-03; 8:45 am]

BILLING CODE 4310-JB-P